DEPARTMENT OF COMMERCE

National Oceanic and Atmospheric Administration

RIN 0648-XA774

Marine Mammals; File No. 13927

AGENCY: National Marine Fisheries Service (NMFS), National Oceanic and Atmospheric Administration (NOAA), Commerce.

ACTION: Notice; issuance of permit amendment.

SUMMARY: Notice is hereby given that a major amendment to Permit No. 13927 has been issued to that Dr. James H.W. Hain, Associated Scientists at Woods Hole, Box 721, Woods Hole, MA 02543.

ADDRESSES: The permit amendment and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

FOR FURTHER INFORMATION CONTACT: Carrie Hubard or Amy Hapeman, (301) 427-8401.

SUPPLEMENTARY INFORMATION: On May 10, 2012, notice was published in the Federal Register (77 FR 27441) that a request for an amendment to Permit No. 13927 to conduct research on North Atlantic right whales (Eubalaena glacialis) had been submitted by the above-named applicant. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 13927, issued on October 19, 2011 (76 FR 67151), authorizes the permit holder to harass North Atlantic right and humpback whales (Megaptera novaeangliae) during aerial and vessel surveys off the U.S. southeast coast. Bottlenose (Tursiops truncatus) and Atlantic spotted dolphins (Stenella frontalis) may be incidentally harassed during research activities. The permit was amended to increase take numbers of North Atlantic right whales from 50 to 100 per year during aerial surveys and from ten to 60 per year during vessel surveys. The permit is valid through October 31, 2016.

A supplemental environmental assessment (SEA) analyzing the effects of the permitted activities on the human environment was prepared in compliance with the National Environmental Policy Act of 1969 (42 U.S.C. 4321 et seq.). Based on the analyses in the SEA, NMFS determined that issuance of the permit would not significantly impact the quality of the human environment and that preparation of an environmental impact statement was not required. That determination is documented in a Finding of No Significant Impact (FONSI), signed on January 18, 2013.

As required by the ESA, issuance of this permit amendment was based on a finding that such permit: (1) Was applied for in good faith; (2) will not operate to the disadvantage of such endangered species; and (3) is consistent with the purposes and policies set forth in section 2 of the ESA.

Dated: February 1, 2013.
P. Michael Payne,
Chief, Permits and Conservation Division, Office of Protected Resources, National Marine Fisheries Service.

[FR Doc. 2013-02645 Filed 2-5-13; 8:45 am]

BILLING CODE 3510-22-P